ENVIRONMENTAL PROTECTION AGENCY

40 CFR Part 300

[FRL-7796-2]

National Oil and Hazardous Substances Pollution Contingency Plan; National Priorities List

AGENCY: Environmental Protection Agency.

ACTION: Notice of intent to delete Dubose Oil Production Company site from the National Priorities List: request for comments.

SUMMARY: The Environmental Protection Agency (EPA) Region 4 announces its intent to delete the Dubose Oil Production Company Site from the National Priorities List (NPL) and requests public comment on this proposed action. The NPL constitutes Appendix B to 40 CFR Part 300 which is the National Oil and Hazardous Substances Pollution Contingency Plan (NCP), which EPA promulgated pursuant to section 105 of the Comprehensive Environmental Response, Compensation, and Liability Act (CERCLA) of 1980, as amended. EPA and the State of Florida Department of Environmental Protection (FDEP) have determined that the Site poses no significant threat to public health or the environment and therefore, further response measures pursuant to CERCLA are not appropriate.

DATES: Comments concerning this Site may be submitted on or before: September 3, 2004.

ADDRESSES: Comments may be mailed to: Winston A. Smith, Director, Waste Management Division, U.S. Environmental Protection Agency, Atlanta Federal Center, 61 Forsyth Street SW., Atlanta, Georgia 30303-8960.

Comprehensive information on this Site is available through the Region 4 public docket, which is available for viewing at the DOPC site information repositories at two locations. Locations, contacts, phone numbers and viewing hours are:

U.S. EPA Record Center, attn:Ms. Debbie Jourdan, Atlanta Federal Center, 61 Forsyth Street, SW., Atlanta, Georgia 30303-8960, Phone: (404)562-8862, Hours: 8 a.m. to 4 p.m., Monday through Friday By Appointment Only.

University of Florida Library, 11100 University Parkway, Pensacola, Florida 32514, Phone: (850) 484-6471, Hours: 8 a.m. to 10 p.m., Monday through Thursday 8 a.m. to 6 p.m., Friday 10 a.m. to 6 p.m., Saturday. 1 p.m. to 5 p.m., Sunday.

FOR FURTHER INFORMATION CONTACT: Caroline Robinson, U.S. EPA Region 4, Mail Code: WD-SRTSB, Atlanta Federal Center, 61 Forsyth Street, SW., Atlanta, Georgia 30303-8960, (404) 562-8930.

SUPPLEMENTARY INFORMATION:

Table of Contents

I. Introduction

II. NPL Deletion Criteria

III. Deletion Procedures

IV. Basis for Intended Site Deletion

I. Introduction

The EPA Region 4 announces its intent to delete the DOPC site, Cantonment, Florida, from the NPL, which constitutes Appendix B of the NCP, 40 CFR part 300, and requests comments on this deletion. EPA identifies sites on the NPL that appear to present a significant risk to public health, welfare, or the environment. Sites on the NPL may be the subject of remedial actions financed by the Hazardous Substance Superfund Trust Fund (Fund). Pursuant to § 300.425(e)(3) of the NCP, any site deleted from the NPL remains eligible for Fund-financed remedial actions if conditions at the site warrant such action.

EPA proposes to delete the DOPC site, located at Hwy C97 in Cantonment, Escambia County, Florida from the NPL.

EPA will accept comments concerning this Site for thirty days after publication of this notice in the Federal Register.

Section II of this notice explains the criteria for deleting sites from the NPL. Section III discusses procedures that EPA is using for this action. Section IV discusses how this Site meets the deletion criteria.

II. NPL Deletion Criteria

The NCP establishes the criteria that the Agency uses to delete sites from the NPL. In accordance with 40 CFR 300.425(e), sites may be deleted from, or re-categorized on, the NPL where no further response is appropriate. In making this determination, EPA shall consider, in consultation with the State, whether any of the following criteria have been met:

(i) Responsible or other parties have implemented all appropriate response actions required;

(ii) All appropriate Fund-financed responses under CERCLA have been implemented and no further action by responsible parties is appropriate; or

(iii) The remedial investigation has shown that the release poses no significant threat to public health or the environment and, therefore, taking of remedial measures is not appropriate.

CERCLA section 121(c), 42 U.S.C. 9621(c), provides in pertinent part that:

If the President selects a remedial action that results in any hazardous substances, pollutants, or contaminants remaining at the Site, the President shall review such remedial action no less often than each five years after the initiation of such remedial action to assure that human health and the environment are being protected by the remedial action being implemented. * * *

EPA policy interprets this provision of CERCLA to apply to those sites where treated, in this case solidified, waste remains on-site. On that basis, for reasons set forth below, the statutory requirement has been satisfied at this Site, and five year reviews and operation and maintenance activities will be required. In the event new information is discovered which indicates a need for further action, EPA may initiate appropriate remedial actions. In addition, whenever there is a significant release from a site previously deleted from the NPL, that site may be restored to the NPL without application of the Hazardous Ranking System. Accordingly, the Site is qualified for deletion from the NPL.

III. Deletion Procedures

EPA will accept and evaluate public comments before making a final decision on deletion. The following procedures were used for the intended deletion of the Site:

1. FDEP has concurred with the deletion decision;

2. Concurrently with this Notice of Intent, a notice has been published in local newspapers and has been distributed to appropriate federal, state and local officials and other interested parties announcing a 30-day public comment period on the proposed deletion from the NPL; and

3. The Region has made all relevant documents available at the information repositories.

The Region will respond to significant comments, if any, submitted during the comment period.

Deletion of the Site from the NPL does not itself create, alter, or revoke any individual rights or obligations. The NPL is designed primarily for informational purposes to assist Agency management.

A deletion occurs when the Regional Administrator places a final notice in the Federal Register. Generally, the NPL will reflect any deletions in the final update following the Notice. Public notices and copies of the Responsiveness Summary, if any, will be made available to local residents by the Regional office.

IV. Basis for Intended Site Deletion

The following site summary provides the Agency's rationale for the intention to delete this Site from the NPL.

The Dubose Oil Products Company Site is located at Hwy C97 Cantonment, Escambia County, Florida. The inactive Site is 10 acres in size and it was used as a waste disposal storage, treatment, recycling, and disposal facility. The surrounding land use is primarily rural agricultural.

The Dubose Oil Production Company Site was operated as a waste storage, treatment, recycling and disposal facility. The facility received waste oils, petroleum refining waste, spent solvents, and wood treating waste for processing and recovery operations and disposal. Waste arrived via tanker trucks and in 55 gallon drums. The facility used a batch thermal treatment process to recover a usable oil product from various waste streams.

In September 1980, Dubose Oil Production Company (DOPC) applied to EPA for a Resource Conservation and Recovery Act (RCRA) Interim Status permit to operate a treatment, storage, and disposal (TSD) facility at the site. In Novemeber 1981, DOPC ceased operations, but an FDEP compliance inspection conducted in March 1982 found that the company was preparing to close the facility without an approved closure plan. Later that same year, EPA and FDEP sampled the site and found evidence of buried drums, contaminated springs, and an oil sheen on one of the onsite ponds.

After various administrative and judicial efforts to secure appropriate closure and cleanup of the site between 1982 and 1984 were unsuccessful, FDEP hired a contractor in late 1984 to excavate contaminated materials and secure the site. Between November 1984 and May 1985, the South Pound was excavated, filled with contaminated soils to approximately 20 feet above surrounding grade and covered with a 30 mil PVC cover. The temporary “vault” contained 38,000 cubic yards of soil, leaving a ravine in the southwest corner of the site. EPA proposed the site for inclusion on the National Priorities List (NPL) in 1984, finalizing the site's listing in June 1986.

Based on DOPC company records and other information, FDEP and EPA identified a number of potentially responsible parties (PRPs) who had sent waste to the DOPC facility. In October 1987, FDEP negotiated an Administrative Order on Consent with a group of PRPs known as the DOPC Steering Committee (DOPCSC) in which DOPCSC agreed to conduct the Remedial Investigation and Feasibility Study (RI/FS) at the site. The final RI report was published in April 1989. The FS report was completed in January 1990.

The RI documented contamination in soil, surface water, sediments, and groundwater by various organic compounds. Primary contaminants of concern included polynuclear aromatic hydrocarbons (PNAs), pentachlorophenol (PCP), and various volatile organic compounds (VOC). Soil contamination was limited to the material in the vault and various “hot spots” which were better characterized during the Additional Investigation in 1992. Although trace amounts of organics were detected in three monitor wells, contaminants were not detected above drinking water standards. However, the perched groundwater contained VOCs above drinking water standards, including trichloroethene (TCE) and 1,1-dichloroethene (DCE).

After reviewing the results of the RI/FS, EPA issued a Record of Decision on March 29, 1990. On June 17, 1991, A Consent Decree (CD) negotiated between EPA and DOPCSC for the performance of the Remedial Design Remedial Action (RD/RA). The CD was entered by the Northern District Court of Florida, Pensacola Division. In accordance with the ROD, an additional investigation was also completed in 1992 as part of the RD to confirm the extent of hot spots of contaminated soils outside the vault. The remedy implemented in accordance with the ROD included the:

—Installation of temporary construction facilities, stormwater management controls, and a wastewater treatment plant.

—Excavation and stockpiling of contaminated soil from the Silo Hot Spot.

—Erection of the biotreatment facility.

—Excavation of 38,854 tons of non-contaminated soil from the vault, confirmatory sampling, and placement in the ravine.

—Excavation and bioremediation of 19,705 tons of contaminated vault and hot spot soils, confirmatory sampling, and disposal in the ravine. Two additional hot spots were discovered in the sediment of the leachate pond and the northern berm of the vault. This material was also excavated and treated.

—Draining and backfilling three onsite ponds.

—Final grading of the ravine, former vault, and former pond areas, and seeding of the entire site.

—Construction of surface water runoff controls to accommodate seasonal precipitation, including inlets, terraces, culverts, and retention basins.

After draining and backfilling the leachate pond, a contaminated spring was discovered. To address this contamination and ensure the protectiveness of the remedy, a riprap swale was constructed to provide passive aeration of the contaminated water. In addition, the spring and portions of the swale were fenced to prevent human and animal contact with the spring discharge. The pre-final inspection was conducted at the site on May 31, 1995, with representatives present from EPA, FDEP, and DOPCSC. The punch list produced at this inspection indicated that all components of the remedy had been constructed in accordance with the ROD and the remedial design. The Site completion document was approved by EPA on September 25, 1995 with the completion of the soil treatment (achievement of soil cleanup goals). Long term groundwater and surface water monitoring was implemented in October 1995 with continued quarterly monitoring.

As stated in the September 24, 1998, Five Year Review document, the contamination in groundwater and surface water would naturally attenuate to health protective levels over time. As of June 2003, during the collection of additional groundwater and surface water sampling, the surface water compliance point sample and the North Pond discharge compliance point sample were non-detect for all target compounds. The maintenance inspection performed on June 6, 2003, verified that all of the berms were performing adequately and the drainage features were free of debris and functioning as intended.

EPA, with concurrence of FDEP, has determined that all appropriate actions at the Dubose Oil Producing Company Site have been completed, and no further remedial action is necessary. Therefore, EPA is proposing deletion of the Site from the NPL.

Dated: May 26, 2004.
J.I. Palmer, Jr.,
Regional Administrator, U.S. EPA Region 4.

[FR Doc. 04-17659 Filed 8-3-04; 8:45 am]

BILLING CODE 6560-50-P